DEPARTMENT OF DEFENSE

48 CFR Part 250

[DFARS Case 2003-D048]

Defense Federal Acquisition Regulation Supplement; Extraordinary Contractual Actions

AGENCY: Department of Defense (DoD).

ACTION: Proposed rule with request for comments.

SUMMARY: DoD is proposing to amend the Defense Federal Acquisition Regulation Supplement (DFARS) to update text pertaining to processing of requests for extraordinary contract adjustments. This proposed rule is a result of a transformation initiative undertaken by DoD to dramatically change the purpose and content of the DFARS.

DATES: Comments on the proposed rule should be submitted in writing to the address shown below on or before April 8, 2005, to be considered in the formation of the final rule.

ADDRESSES: You may submit comments, identified by DFARS Case 2003-D048, using any of the following methods:

◦ Federal eRulemaking Portal: http://www.regulations.gov. Follow the instructions for submitting comments.

◦ Defense Acquisition Regulations Web site: http://emissary.acq.osd.mil/dar/dfars.nsf/pubcomm. Follow the instructions for submitting comments.

◦ E-mail: dfars@osd.mil. Include DFARS Case 2003-D048 in the subject line of the message.

◦ Fax: (703) 602-0350.

◦ Mail: Defense Acquisition Regulations Council, Attn: Mr. Euclides Barrera, OUSD(AT&L)DPAP(DAR), IMD 3C132, 3062 Defense Pentagon, Washington, DC 20301-3062.

◦ Hand Delivery/Courier: Defense Acquisition Regulations Council, Crystal Square 4, Suite 200A, 241 18th Street, Arlington, VA 22202-3402.

All comments received will be posted to http://emissary.acq.osd.mil/dar/dfars.nsf.

FOR FURTHER INFORMATION CONTACT: Mr. Euclides Barrera, (703) 602-0296.

SUPPLEMENTARY INFORMATION:

A. Background

DFARS Transformation is a major DoD initiative to dramatically change the purpose and content of the DFARS. The objective is to improve the efficiency and effectiveness of the acquisition process, while allowing the acquisition workforce the flexibility to innovate. The transformed DFARS will contain only requirements of law, DoD-wide policies, delegations of FAR authorities, deviations from FAR requirements, and policies/procedures that have a significant effect beyond the internal operating procedures of DoD or a significant cost or administrative impact on contractors or offerors. Additional information on the DFARS Transformation initiative is available at http://www.acq.osd.mil/dpap/dfars/transf.htm.

This proposed rule is a result of the DFARS Transformation initiative. The proposed DFARS changes—

◦ Update requirements for DoD processing of requests for extraordinary contract adjustments; and

◦ Delete procedures for preparation of records and submittal of requests to a contract adjustment board. Text on this subject will be relocated to the new DFARS companion resource, Procedures, Guidance, and Information (PGI), available at http://www.acq.osd.mil/dpap/dars/pgi.

This rule was not subject to Office of Management and Budget review under Executive Order 12866, dated September 30, 1993.

B. Regulatory Flexibility Act

DoD does not expect this rule to have a significant economic impact on a substantial number of small entities within the meaning of the Regulatory Flexibility Act, 5 U.S.C. 601, et seq., because the rule addresses internal administrative DoD procedures for processing requests for extraordinary contract adjustments. Therefore, DoD has not performed an initial regulatory flexibility analysis. DoD invites comments from small businesses and other interested parties. DoD also will consider comments from small entities concerning the affected DFARS subparts in accordance with 5 U.S.C. 610. Such comments should be submitted separately and should cite DFARS Case 2003-D048.

C. Paperwork Reduction Act

The Paperwork Reduction Act does not apply because the rule does not impose any information collection requirements that require the approval of the Office of Management and Budget under 44 U.S.C. 3501, et seq.

List of Subjects in 48 CFR Part 250

Government procurement.

Michele P. Peterson,
Editor, Defense Acquisition Regulations System.

Therefore, DoD proposes to amend 48 CFR Part 250 as follows:

1. The authority citation for 48 CFR Part 250 continues to read as follows:

Authority: 41 U.S.C. 421 and 48 CFR Chapter 1.

PART 250—EXTRAORDINARY CONTRACTUAL ACTIONS

2. Section 250.105 is revised to read as follows:

250.105 Records.

Follow the procedures at PGI 250.105 for preparation of records.

3. Section 250.201-70 is amended by revising paragraph (a) and the last sentence of paragraph (b) introductory text to read as follows:

250.201-70 Delegations.

(a) Military Departments. The Departments of the Army, Navy and Air Force will specify delegations and levels of authority for actions under the Act and the Executive Order in departmental supplements or agency acquisition guidance.

(b) * * * The agency supplements or agency acquisition guidance shall specify the delegations and levels of authority.

* * * * *

4. Subpart 250.3 is revised to read as follows:

Subpart 250.3—Contract Adjustments

Sec.
250.303-1 Contractor requests.
250.305 Processing cases.
250.306 Disposition.

250.303-1 Contractor requests.

Requests should be filed with the procuring contracting officer (PCO). However, if filing with the PCO is impractical, requests may be filed with an authorized representative, an administrative contracting officer, or the Office of General Counsel of the applicable department or agency, for forwarding to the cognizant PCO.

250.305 Processing cases.

(1) At the time the request is filed, the activity shall prepare the record described at PGI 250.105(1)(i) and forward it to the appropriate official within 30 days after the close of the month in which the record is prepared.

(2) The officer or official responsible for the case shall forward to the contract adjustment board, through departmental channels, the documentation described at PGI 250.305.

(3) Contract adjustment boards will render decisions as expeditiously as practicable. The Chair shall sign a memorandum of decision disposing of the case. The decision shall be dated and shall contain the information required by FAR 50.306. The memorandum of decision shall not contain any information classified “Confidential” or higher. The board's decision will be sent to the appropriate official for implementation.

250.306 Disposition.

For requests denied or approved below the Secretarial level, follow the disposition procedures at PGI 250.306.

[FR Doc. 05-2173 Filed 2-4-05; 8:45 am]

BILLING CODE 5001-08-P